ENVIRONMENTAL PROTECTION AGENCY

40 CFR Part 52

[R05-OAR-2005-OH-0005; FRL-7949-5]

Approval and Promulgation of Implementation Plans; Ohio Particulate Matter

AGENCY: Environmental Protection Agency (EPA).

ACTION: Proposed rule.

SUMMARY: EPA is proposing to approve assorted revisions to regulations governing particulate matter emissions in the Cleveland area. These revisions affect emission limits for Ford Motor Company's Cleveland Casting Plant and Cleveland facilities of General Chemical Corporation and International Steel Group (formerly LTV Steel). EPA concludes that Ohio has provided a suitable modeling demonstration that the revised limits continue to provide for attainment of the air quality standard for particles 10 microns and less (known as PM10).

Ohio submitted these revisions on July 18, 2000, along with revisions of other particulate matter regulations, most of which had statewide applicability. EPA proposed action on these other revisions on December 2, 2002, at 67 FR 71515. EPA is not reopening the comment period on the prior proposal. EPA anticipates publishing final rulemaking addressing the complete Ohio submittal, considering comments on the prior proposal and any comments addressing today's proposal.

DATES: Written comments on this proposed rule must arrive on or before September 8, 2005.

ADDRESSES: Submit comments, identified by Regional Material in EDocket (RME) ID No. R05-OAR-2005-OH-0005, by one of the following methods:

Federal eRulemaking Portal: http://www.regulations.gov. Follow the on-line instructions for submitting comments.

Agency Web site: http://docket.epa.gov/rmepub/. RME, EPA's electronic public docket and comments system, is EPA's preferred method for receiving comments. Once in the system, select “quick search,” then key in the appropriate RME Docket identification number. Follow the on-line instructions for submitting comments.

E-mail: mooney.john@epa.gov.

Fax: (312)886-5824.

Mail: You may send written comments to: John M. Mooney, Chief, Criteria Pollutant Section, (AR-18J), U.S. Environmental Protection Agency, Region 5, 77 West Jackson Boulevard, Chicago, Illinois 60604.

Hand delivery: Deliver your comments to: John M. Mooney, Chief, Criteria Pollutant Section, (AR-18J), U.S. Environmental Protection Agency, Region 5, 77 West Jackson Boulevard, 18th floor, Chicago, Illinois 60604. Such deliveries are only accepted during the Regional Office's normal hours of operation. The Regional Office's official hours of business are Monday through Friday, 8:30 a.m. to 4:30 p.m. excluding Federal holidays.

Instructions: Direct your comments to RME ID No. R05-OAR-2005-OH-0005. EPA's policy is that all comments received will be included in the public docket without change, including any personal information provided, unless the comment includes information claimed to be Confidential Business Information (CBI) or other information whose disclosure is restricted by statute. Do not submit information that you consider to be CBI or otherwise protected through RME, regulations.gov, or e-mail. The EPA RME Web site and the federal regulations.gov Web site are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section IV of the SUPPLEMENTARY INFORMATION section of this document.

Docket: All documents in the electronic docket are listed in the RME index at http://docket.epa.gov/rmepub/. Although listed in the index, some information is not publicly available, i.e., CBI or other information whose disclosure is restricted by statute. Publicly available docket materials are available either electronically in RME or in hard copy at Environmental Protection Agency, Region 5, Air and Radiation Division, 77 West Jackson Boulevard, Chicago, Illinois 60604. We recommend that you telephone John Summerhays at 312-886-6067 before visiting the Region 5 office. This facility is open from 8:30 a.m. to 4:30 p.m., Monday through Friday, excluding legal holidays.

U.S. Environmental Protection Agency, Region 5, Air and Radiation Division (AR-18J), 77 West Jackson Boulevard, Chicago, Illinois 60604.

FOR FURTHER INFORMATION CONTACT: John Summerhays, Criteria Pollutant Section, Air Programs Branch (AR-18J), U.S. Environmental Protection Agency, Region 5, Chicago, Illinois 60604, (312) 886-6067, summerhays.john@epa.gov.

SUPPLEMENTARY INFORMATION: This notice is organized as follows:

I. Background of State Submittal

A. Does this action apply to me?

B. What did Ohio submit?

II. Review of Cleveland Area Emission Limits

A. Did Ohio Use Appropriate Emissions Estimates?

B. Did Ohio Conduct an Appropriate Modeling Analysis?

III. Summary of EPA Action

IV. Procedures for Commenting

A. How can I get copies of this document and other related information?

B. How and to whom do I submit comments?

V. Statutory and Executive Order Reviews

I. Background of State Submittal

A. Does This Action Apply to Me?

This action addresses particulate matter in Cuyahoga County, Ohio. Thus, this action applies to you if you have an interest in particulate matter air quality in Cuyahoga County.

B. What Did Ohio Submit?

Ohio submitted several revisions to its particulate matter regulations on July 18, 2000. These revisions generally addressed appeals by affected industries of the regulations that Ohio adopted in 1991. The revisions amended several rules with statewide applicability, particularly affecting the requirements for utilities and for iron and steelmaking facilities, and further amended the requirements for several specific facilities in the Cleveland and Steubenville areas.

EPA proposed rulemaking on most of these revisions on December 2, 2002, at 67 FR 71515. That notice of proposed rulemaking provided a more detailed discussion of the background and contents of Ohio's submittal. At that time, EPA deferred rulemaking on the Cleveland area emission limits pending receipt of a further assessment of the impact of the revisions on attainment of the annual air quality standard for particles 10 microns and smaller, known as PM10. EPA also solicited further information from Ohio concerning the emissions of selected sources in the area.

Ohio submitted a revised modeling analysis of air quality impacts on February 12, 2003. Ohio provided further emissions documentation on January 7, 2004, and February 1, 2005, and provided a final modeling analysis on April 21, 2005. With this information, EPA is now proposing rulemaking on the remainder of Ohio's July 2000 submittal, specifically addressing emission limit revisions in the Cleveland area. EPA anticipates publishing a single final rulemaking that addresses the entire Ohio submittal.

II. Review of Cleveland Area Emission Limits

Ohio revised emission limits for Ford Motor Company, General Chemical Corporation, and International Steel Group (ISG, formerly LTV Steel) facilities in the area. Some of these revisions affected numerical emission limits of units at these facilities. In addition, the revised rules provide modified approaches to regulating fugitive emissions from roadways, parking areas, and storage piles for the Ford Motor Company and ISG facilities.

The principal criterion for reviewing these revisions is whether the revised limits continue to provide for attainment of the PM10 standards. Ohio's July 2000 submittal included a modeling analysis seeking to demonstrate that the revised limits continue to yield concentrations below both the 24-hour average standard and the annual average standard even if sources emit at their maximum capacity. Ohio submitted further information addressing annual average modeling results by letter dated February 12, 2003, and by electronic mail dated March 24, 2003. Ohio provided further information on selected emission rates by memoranda dated January 7, 2004, and February 1, 2005, and provided further modeling information by electronic mail dated April 21, 2005. The review of Ohio's revisions primarily involves reviewing this modeling demonstration that the revised limits continue to provide for attainment. The next section of this notice reviews the emissions estimates used in this analysis, followed by a section that reviews the modeling analysis.

One other relevant criterion is whether the limitations in Ohio's rules are enforceable. In general, these rules impose the same types of limitations as did previous rules; these rules raise no new issues regarding enforceability. EPA believes that these regulations are fully enforceable.

A. Did Ohio Use Appropriate Emissions Estimates?

The revised limitations address both stack sources and fugitive sources of air emissions. For the stack sources, the emissions to be input into the model simply reflect the applicable emissions limit, which defines the maximum allowable emissions for these sources. To be precise, since the adopted regulations limit total suspended particulate matter (TSP) emissions while the modeling assesses PM10 concentrations, the model input reflects the PM10 emissions expected when the source is emitting TSP at the allowable level. Thus, the modeled emissions reflect subtraction of emissions of particles larger than 10 micrometers and addition where estimates can be made of emissions of condensible particles that are PM10 but are not measured by the applicable TSP test method.

For the fugitive sources, the emissions associated with the applicable limits are more difficult to assess. The fugitive sources subject to revised limits in Cuyahoga County include the paved and unpaved roadways and parking areas as well as the storage piles at the Ford and ISG facilities. At the Ford facility, the limit for paved roadways and parking areas was changed from one minute of visible emissions per hour to five percent opacity, based on an average of three readings for each of four vehicle passes. For the Ford facility's unpaved roadways and parking areas, the revised rules allow Ford to opt (with at least 30 days' notice) to be subject to either the prior limit of 13 minutes of visible emissions per hour or an alternative requirement for a specified set of emission control practices. For the Ford facility's storage piles, the revised rules allow Ford to opt (again with at least 30 days' notice) to be subject either to the prior limit of 13 minutes of visible emissions per hour or an alternative limit of 20 percent opacity.

For unpaved roadways and parking areas at the ISG facility, the revised rules replace the former limit of three minutes of visible emissions with a limit of five percent opacity, averaged over three readings from each of four vehicle passes. Similarly for paved roadways and parking areas at ISG, the revised rules replace the former limit of one minute per hour of visible emissions with a limit of five percent opacity, again averaged over three readings from each of four vehicle passes. For storage piles at ISG, the revised rules replace the prior limit of one minute visible emissions per hour with a limit of 20 percent opacity for material handling and 10 percent for wind erosion (based on a 3-minute average) and 10 percent opacity for vehicle operation on storage piles (based on 3 readings for each of four vehicle passes).

With the exception of the limits at storage piles at the ISG facility, Ohio believes that the new limits are equivalent to the former limits. For the various options that the rules provide the Ford facility, Ohio's submittal reflects a view that Ford is in each case given a choice between two equivalent options. EPA concurs that, again with the exception of the ISG storage pile limits, the revised rules have approximately equivalent stringency as the former rules. Therefore, Ohio may appropriately assume the same emission levels for these sources in its attainment demonstration as it used in its 1991 SIP.

With the ISG facility's storage piles, on the other hand, a revised emission estimate is necessary. These estimates are difficult to make, in part due to the limited information available on fugitive emissions at specified opacity levels. Ohio estimated that, as compared to the 90 percent control required by the prior limit, the revised limits require a 75 percent reduction from uncontrolled emission levels. EPA believes this provides an appropriate estimate of allowable emissions from these sources.

EPA reviewed the emissions values used in the modeling analysis and requested further documentation of the values used for selected emission points at the Ford and ISG facilities. Ohio provided this documentation on January 7, 2004 (addressing the Ford facility), and February 1, 2005 (addressing the ISG facility). The remainder of this section reviews issues arising in this supplemental documentation.

A first issue concerns use of actual rather than allowable emission rates. For PM10 attainment plans, for most emission points, EPA guidance calls for use of maximum allowable emissions. At a pair of emission points at the ISG facility, Ohio used actual emissions levels. These two emission points are the combustion stacks for a pair of coke batteries that were both shut down about 10 years ago and thus currently have zero emissions.

In effect, EPA guidance for PM10 attainment plans mandates modeling the maximum quantity of emissions that the source in its existing configuration is allowed to emit. If the source is modified, the new source review rules protect against significant adverse impacts: if the modification increases emissions enough to have potential for more than de minimis air quality impact, then explicit steps must be taken to address the impact.

For these coke combustion stacks, one scenario would be a resumption of operations. Such a resumption would likely trigger permit review, including reassessment of whether the permit limits continue to assure attainment of the PM10 air quality standards.

A more likely scenario would be for the emission reductions from the shutdown of the coke batteries to be used to compensate for another emission increase at the plant, i.e. to use the reductions as “netting credits” to show that the facility has no more than a de minimis net increase in emissions notwithstanding the other emission increase. The quantity of “netting credits” is limited to the actual emissions of the source when it was in operation, not its allowable emissions. Consequently, for these two emission points, the appropriate baseline is their former actual emission level rather than the allowable emission level, since the actual emission level is the baseline above which emission increases will either be judged to be de minimis or trigger the full set of new source review requirements including air quality impact protection. Thus, for these emission points, it is appropriate to model their former actual emissions.

EPA reviewed the additional documentation on emissions at the Ford facility, submitted to EPA on January 7, 2004, and concluded that emissions at this facility were properly estimated. On the other hand, the documentation submitted on February 1, 2005 identifies errors in the emissions values that had been used in the modeling analyses for ISG's Number 2 Basic Oxygen Furnace scrubber stack and for the General Chemical facility. The modeling provided by Ohio on April 21, 2005 corrects these errors. EPA concludes that the emission estimates used in the April 21, 2005 modeling provide a proper basis for assessing whether Ohio's emission limits assure attainment of the PM10 standard.

B. Did Ohio Conduct an Appropriate Modeling Analysis?

Ohio's modeling analysis in many ways resembled the modeling for the 1991 SIP which EPA ultimately approved on June 12, 1996 (61 FR 29662). In general, emission inputs were identical to those in the 1991 SIP except for those emissions expected to change as a result of modified emission limits. The meteorological data were the same as in the 1991 SIP, again using surface data from Cleveland and upper air data from Buffalo from the 5-year period from 1983 to 1987.

Ordinarily, states are required to use the most recent available 5 years of meteorological data. This guidance is intended to assure an unbiased selection of meteorological data. At the time of the 1991 SIP, Ohio's meteorological data were the most recent available data. EPA believes that it is not necessary to use more recent meteorological data in this case. In a multi-source context such as Cleveland, for a pollutant such as PM10 where source impacts are relatively localized, the most likely effect of changing the meteorological data set is to have a mix of results in which some sources have larger estimated impacts and other sources have smaller estimated impacts. This in turn would suggest that some sources would need lower emission limits and other sources could have higher emission limits. Overall, however, EPA has no reason to expect the use of an updated meteorological data set to provide a more protective set of emission limits in these circumstances. Since most emissions sources in the area are not becoming subject to new emission limits, EPA believes that to require use of new meteorological data to review existing emissions limits would be disruptive, resource intensive and not warranted. EPA seeks to assure that the meteorological data provide an unbiased basis for assessing the adequacy of the area's emission limits for assuring attainment of the clean air standards, and we believe that the existing meteorological data satisfy this purpose in these circumstances.

Although inputs in the State's analysis were largely the same as in the 1991 analysis (other than emission rates allowed to change by new limits), Ohio used an updated dispersion model. Specifically, Ohio used the Industrial Source Complex-Short Term-3 (ISCST3, Version 99155) in this analysis, as compared to ISC in the 1991 analysis. This change is warranted in order to take advantage of the improvements in analytical tools in the newer model.

One improvement in the newer model is the ability to model large area sources. Ohio's 1991 analysis addressed large area sources by using a separate model called RAM. Unfortunately, RAM was only able to predict short term average concentrations. The modeling in Ohio's July 2000 submittal matched its 1991 modeling by considering large area source impacts in assessing 24-hour average concentrations but not in assessing annual average concentrations. Ohio then conducted further modeling, including these large area sources in the assessment of annual average concentrations, modeling which it submitted on February 12, 2003.

Ohio's annual average modeling included two steps. First, Ohio modeled all sources, including the large area sources, at full capacity operation, estimating concentrations at numerous receptor sites. At one site near Ford and two sites near ISG, estimated concentrations exceeded the annual standard for selected modeled years.

As a second step, Ohio further assessed concentrations at these three receptor sites, using emission rates adjusted in accordance with EPA modeling guidance to consider the percent of time that sources are not operating and thus not emitting. Consistent with EPA guidance, Ohio obtained this information for the last two years. Ohio found that the Ford facility is routinely shut down for several days a year. In 2001 and 2002, the facility was shut down for an average of 29.5 days, indicating that annual emissions from all its emission points could be modeled at (365−29.5)/365 or 0.92 times the emission rate used in the modeling of 24-hour average concentrations. For the ISG facility, Ohio obtained further information on hours of operations of a barge unloading source, and modeled with emissions adjusted to reflect this usage information for this source. Ohio's analysis using these adjusted emission rates showed concentrations below 50 μg/m³ for all receptors for all modeled years, with the highest year's annual average at these receptors found to be 49.8 μg/m³, 48.0 μg/m³, and 42.7 μg/m³, respectively. More importantly, the 5-year average concentrations were found to be 40.7 μg/m³, 47.2 μg/m³, and 40.1 μg/m³ at the receptor near the Ford facility and the two receptors near the ISG facility, respectively.

Ohio did not directly address annual average PM10 concentrations with an emissions inventory that corrects the errors identified in Ohio's submittal of February 1, 2005. However, Ohio's analyses of 24-hour PM10 concentrations demonstrate that correction of these errors does not affect estimated short term average concentrations by more than 0.4 μg/m³. The effect on annual average concentrations would be even less. Therefore, EPA concludes that Ohio has provided adequate evidence that the rules it submitted assure that the emissions allowed under the rules will not cause violations of the annual PM10 standard.

The most relevant modeling analysis relative to the 24-hour PM10 standard is the modeling that Ohio submitted April 21, 2005, reflecting corrected emission rates appropriate for assessing whether the limits in the submitted rules assure attainment of the standard. This analysis again shows the highest concentrations to be near the Ford facility and the ISG facility. Since this standard allows 1 expected exceedance of 150 μg/m³ per year, the critical question is whether the sixth highest concentration at any receptor across the 5 years that were modeled exceeds 150 μg/m³. The highest of the sixth highest concentrations at receptors near the Ford facility is 147.4 μg/m³. The highest of the sixth highest concentrations at receptors near the ISG facility is 143.6 μg/m³. Concentrations estimated elsewhere are lower, usually substantially lower. Consequently, based on this analysis, EPA concludes that Ohio's regulations continue to assure attainment of the PM10 standards in Cuyahoga County. Since the regulations are also fully enforceable, EPA concludes that it may propose to approve these regulations as continuing to meet relevant requirements.

III. Summary of EPA Action

EPA is proposing to approve the limits for Cuyahoga County sources contained in the particulate matter rules that Ohio submitted July 18, 2000. These limits are primarily contained in Rule 3745-17-12 of Ohio Administrative Code, but also include Rule 3745-17-07(B)(9) and (B)(10), related provisions in Rule 3745-17-08 (providing revised limits on fugitive dust at the Ford facility), and Rule 3745-17-11(B)(6) (limiting emissions from ISG's 84-inch mill reheat furnaces). EPA is also proposing to approve the compliance schedules contained in Rule 3745-17-04 for sources with revised limits.

IV. Procedures for Commenting

A. How Can I Get Copies of This Document and Other Related Information?

1. The Regional Office has established an electronic public rulemaking file available for inspection at RME under ID No. R05-OAR-2005-OH-0005, and a hard copy file which is available for inspection at the Regional Office. The official public file consists of the documents specifically referenced in this action, any public comments received, and other information related to this action. Although a part of the official docket, the public rulemaking file does not include CBI or other information whose disclosure is restricted by statute. The official public rulemaking file is the collection of materials that is available for public viewing at the Air Programs Branch, Air and Radiation Division, EPA Region 5, 77 West Jackson Boulevard, Chicago, Illinois 60604. EPA requests that, if at all possible, you contact the person listed in the FOR FURTHER INFORMATION CONTACT section to schedule your inspection. The Regional Office's official hours of business are Monday through Friday, 8:30 a.m. to 4:30 p.m. excluding Federal holidays.

2. Electronic Access. You may access this Federal Register document electronically through the regulations.gov Web site located at http://www.regulations.gov where you can find, review, and submit comments on Federal rules that have been published in the Federal Register, the Government's legal newspaper, and that are open for comment.

For public commenters, it is important to note that EPA's policy is that public comments, whether submitted electronically or on paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

B. How and to Whom Do I Submit Comments?

You may submit comments electronically, by mail, or through hand delivery/courier. To ensure proper receipt by EPA, identify the appropriate rulemaking identification number by including the text “Public comment on proposed rulemaking Region 5 Air Docket R05-OAR-2005-OH-0005” in the subject line on the first page of your comment. Please ensure that your comments are submitted within the specified comment period. Comments received after the close of the comment period will be marked “late.” EPA is not required to consider these late comments. Submit comments to John Mooney at the email or street address given in the ADDRESSES section at the beginning of this notice.

V. Statutory and Executive Order Reviews

Executive Order 12866; Regulatory Planning and Review

Under Executive Order 12866 (58 FR 51735, October 4, 1993), this action is not a “significant regulatory action” and therefore is not subject to review by the Office of Management and Budget.

Executive Order 13211: Actions That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This proposed action merely proposes to approve state law as meeting Federal requirements and imposes no additional requirements beyond those imposed by state law. Accordingly, the Administrator certifies that this proposed rule will not have a significant economic impact on a substantial number of small entities under the Regulatory Flexibility Act (5 U.S.C. 601 et seq.).

Unfunded Mandates Reform Act

Because this rule proposes to approve pre-existing requirements under state law and does not impose any additional enforceable duty beyond that required by state law, it does not contain any unfunded mandate or significantly or uniquely affect small governments, as described in the Unfunded Mandates Reform Act of 1995 (Pub. L. 104-4).

Executive Order 13175 Consultation and Coordination With Indian Tribal Governments

This proposed rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13132 Federalism

This action also does not have Federalism implications because it does not have substantial direct effects on the states, on the relationship between the national government and the states, or on the distribution of power and responsibilities among the various levels of government, as specified in Executive Order 13132 (64 FR 43255, August 10, 1999). This action merely proposes to approve a state rule implementing a federal standard, and does not alter the relationship or the distribution of power and responsibilities established in the Clean Air Act.

Executive Order 13045 Protection of Children From Environmental Health and Safety Risks

This proposed rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This proposed rule does not impose an information collection burden under the provisions of the Paperwork Reduction Act of 1995 (44 U.S.C. 3501 et seq.).

List of Subjects in 40 CFR Part 52

Environmental protection, Air pollution control, Incorporation by reference, Intergovernmental relations, Particulate matter, Reporting and recordkeeping requirements.

Dated: July 27, 2005.
Norman Niedergang,
Acting Regional Administrator, Region 5.

[FR Doc. 05-15747 Filed 8-8-05; 8:45 am]

BILLING CODE 6560-50-P